DEPARTMENT OF AGRICULTURE

Rural Housing Service

Notice of Funds Availability for the Section 533 Housing Preservation Grants for Fiscal Year 2010

Announcement Type: Initial Notice inviting applications from qualified applicants for Fiscal Year 2010.

Catalog of Federal Domestic Assistance Numbers (CFDA): 10.433.

SUMMARY: The Rural Housing Service (RHS), an agency within Rural Development, announces that it is soliciting competitive applications under its Housing Preservation Grant (HPG) program. The HPG program is a grant program which provides qualified public agencies, private non-profit organizations, which may include, but not be limited to, faith-based and community organizations, and other eligible entities grant funds to assist very low- and low-income homeowners in repairing and rehabilitating their homes in rural areas. In addition, the HPG program assists rental property owners and cooperative housing complexes in repairing and rehabilitating their units if they agree to make such units available to low- and very low-income persons. This action is taken to comply with RHS regulations found in 7 CFR part 1944, subpart N, which require RHS to announce the opening and closing dates for receipt of preapplications for HPG funds from eligible applicants. The intended effect of this Notice is to provide eligible organizations notice of these dates.

DATES: If submitting a paper application the closing deadline for receipt of all applications in response to this Notice is 5 p.m., local time for each Rural Development State Office on June 28, 2010. If submitting the application in electronic format, the deadline for receipt is 5 p.m. Eastern Standard Time on [same date as paper application]. The application closing deadline is firm as to date and hour. RHS will not consider any application that is received after the closing deadline. Applicants intending to mail applications must provide sufficient time to permit delivery on or before the closing deadline date and time. Acceptance by the United States Postal Service or private mailer does not constitute delivery. Facsimile (FAX) and postage due applications will not be accepted.

SUPPLEMENTARY INFORMATION:

Paperwork Reduction Act

The reporting requirements contained in this Notice have been approved by the Office of Management and Budget under Control Number 0575-0115.

Program Administration

I. Funding Opportunities Description

The funding instrument for the HPG Program will be a grant agreement. The term of the grant can vary from 1 to 2 years, depending on available funds and demand. No maximum or minimum grant levels have been established at the National level. You should contact the Rural Development State Office to determine the allocation.

II. Award Information

For Fiscal Year 2010, $10,146,815.03 is available for the HPG Program. The total includes $746,815.03 in carryover funds. Funds will be distributed under a formula allocation to states pursuant to 7 CFR part 1940, subpart L, “Methodology and Formulas for Allocation of Loan and Grant Program Funds.” Decisions on funding will be based on pre-applications.

III. Eligibility Information

7 CFR part 1944, subpart N provides details on what information must be contained in the preapplication package. Entities wishing to apply for assistance should contact the Rural Development State Office to receive further information, the State allocation of funds, and copies of the preapplication package. Eligible entities for these competitively awarded grants include state and local governments, non-profit corporations, which may include, but not be limited to faith-based and community organizations, Federally recognized Indian tribes, and consortia of eligible entities.

Federally recognized Indian tribes, pursuant to 7 CFR 1944.674, are exempt from the requirement to consult with local leaders including announcing the availability of its statement of activities for review in a newspaper.

As part of the application, all applicants must also provide a Dunn and Bradstreet Data Universal Numbering System (DUNS) number. As required by the Office of Management and Budget (OMB), all grant applicants must provide a DUNS number when applying for Federal grants, on or after October 1, 2003. Organizations can receive a DUNS number at no cost by calling the dedicated toll-free DUNS number request line at 1-866-705-5711. Additional information concerning this requirement is provided in a policy directive issued by OMB and published in the Federal Register on June 27, 2003 (68 FR 38402-38405).

The Department of Agriculture is participating as a partner in the Government-wide Grants.gov site. Electronic applications must be submitted through the grants.gov Web site at: http://www.grants.gov, following the instructions found on the Web site. Please be mindful that the application deadline for electronic format differs from the deadline for paper format. The electronic format deadline will be based on Eastern Standard Time. The paper format deadline is local time for each Rural Development State Office.

IV. Application and Submission Information

Applicants must contact the Rural Development State Office serving the state in which they desire to submit an application to receive further information and copies of the application package. Rural Development will date and time stamp incoming applications to evidence timely and untimely receipt, and, upon request, will provide the applicant with a written acknowledgment of receipt. A listing of Rural Development State Offices, their addresses, telephone numbers, and person to contact follows:

Note: Telephone numbers listed are not toll-free.

Alabama State Office

Suite 601, Sterling Centre

4121 Carmichael Road

Montgomery, Alabama 36106-3683

(334) 279-3454

TDD (334) 279-3495

Anne Chavers

Alaska State Office

800 West Evergreen, Suite 201

Palmer, Alaska 99645

(907) 761-7740

TDD (907) 761-8905

Debbie I. Davis

Arizona State Office

Phoenix Courthouse and Federal Building

230 North First Avenue, Suite 206

Phoenix, Arizona 85003-1706

(602) 280-8768

TDD (602) 280-8706

Carol Torres

Arkansas State Office

700 West Capitol Avenue, Room 3416

Little Rock, Arkansas 72201-3225

(501) 301-3258

TDD (501) 301-3063

Clinton King

California State Office

430 G Street, #4169

Davis, California 95616-4169

(530) 792-5821

TDD (530) 792-5848

Debra Moretton

Colorado State Office

655 Parfet Street, Room E100

Lakewood, Colorado 80215

(720) 544-2923

TDD (800) 659-2656

Mary Summerfield

Connecticut

Served by Massachusetts State Office

Delaware and Maryland State Office

1221 College Park Drive, Suite 200

Dover, Delaware 19904

(302) 857-3614

TDD (302) 857-3585

Debbie Eason

Florida & Virgin Islands State Office

4440 N.W. 25th Place

Gainesville, Florida 32606-6563

(352) 338-3438

TDD (352) 338-3499

Theresa Purnell

Georgia State Office

Stephens Federal Building

355 East Hancock Avenue

Athens, Georgia 30601-2768

(706) 546-2164

TDD (706) 546-2034

Dawn Pilgrim

Hawaii State Office

(Services all Hawaii, American Samoa, Guam, and Western Pacific)

Room 311, Federal Building

154 Waianuenue Avenue

Hilo, Hawaii 96720

(808) 933-8300

TDD (808) 933-8321

Gayle Kuheana

Idaho State Office

Suite A1

9173 West Barnes Drive

Boise, Idaho 83709

(208) 378-5628

TDD (208) 378-5644

Joyce Weinzetl

Illinois State Office

2118 West Park Court, Suite A

Champaign, Illinois 61821-2986

(217) 403-6222

TDD (217) 403-6240

Barry L. Ramsey

Indiana State Office

5975 Lakeside Boulevard

Indianapolis, Indiana 46278

(317) 290-3100 (ext. 426)

TDD (317) 290-3343

Mary Hawthorne

Iowa State Office

210 Walnut Street Room 873

Des Moines, Iowa 50309

(515) 284-4666

TDD (515) 284-4858

Mary Beth Juergens

Kansas State Office

1303 SW First American Place, Suite 100

Topeka, Kansas 66604-4040

(785) 271-2700

TDD (785) 271-2767

Mike Resnik

Kentucky State Office

771 Corporate Drive, Suite 200

Lexington, Kentucky 40503

(859) 224-7325

TDD (859) 224-7422

Beth Moore

Louisiana State Office

3727 Government Street

Alexandria, Louisiana 71302

(318) 473-7962

TDD (318) 473-7655

Yvonne R. Emerson

Maine State Office

Post Office Box 405

Bangor, Maine 04402-0405

(207) 990-9110

TDD (207) 942-7331

Bob Nadeau

Maryland

Served by Delaware State Office

Massachusetts, Connecticut, & Rhode Island State Office

451 West Street Suite 2

Amherst, Massachusetts 01002

(413) 253-4315

TDD (413) 253-4590

Paul Geoffroy

Michigan State Office

3001 Coolidge Road, Suite 200

East Lansing, Michigan 48823

(517) 324-5193

TDD (517) 337-6795

Sonya Wyldes

Minnesota State Office

375 Jackson Street Building, Suite 410

St. Paul, Minnesota 55125

(651) 602-7804

TDD (651) 602-7830

Thomas Osborne

Mississippi State Office

Federal Building, Suite 831

100 West Capitol Street

Jackson, Mississippi 39269

(601) 965-4325

TDD (601) 965-5850

Darnella Smith-Murray

Missouri State Office

601 Business Loop 70 West

Parkade Center, Suite 235

Columbia, Missouri 65203

(573) 876-9303

TDD (573) 876-9480

Becky Eftink

Montana State Office

900 Technology Boulevard, Suite B

Bozeman, Montana 59771

(406) 585-2515

TDD (406) 585-2562

Deborah Chorlton

Nebraska State Office

Federal Building, Room 152

100 Centennial Mall N

Lincoln, Nebraska 68508

(402) 437-5505

TDD (402) 437-5408

Teresa Brohimer

Nevada State Office

1390 South Curry Street

Carson City, Nevada 89703-9910

(775) 887-1222 (ext. 14)

TDD (775) 885-0633

Mona Sargent

New Hampshire State Office

Concord Center

Suite 218, Box 317

10 Ferry Street

Concord, New Hampshire 03301-5004

(603) 223-6046

TDD (603) 229-0536

Sandra Hawkins

New Jersey State Office

5th Floor North, Suite 500

8000 Midlantic Drive

Mt. Laurel, New Jersey 08054

(856) 787-7773

TDD (856) 787-7784

Derrick S. Waltz

New Mexico State Office

6200 Jefferson Street, NE, Room 255

Albuquerque, New Mexico 87109

(505) 761-4944

TDD (505) 761-4938

Susan Gauna

New York State Office

The Galleries of Syracuse

441 South Salina Street, Suite 3575th Floor

Syracuse, New York 13202

(315) 263-4363

TDD (315) 477-6447

Tia Shulkin

North Carolina State Office

4405 Bland Road, Suite 260

Raleigh, North Carolina 27609

(919) 873-2062

TDD (919) 873-2003

Rebecca Dillard

North Dakota State Office

Federal Building, Room 208

Post Office Box 1737

Bismarck, North Dakota 58502

(701) 530-2046

TDD (701) 530-2113

Barry Borstad

Ohio State Office

Federal Building, Room 507

200 North High Street

Columbus, Ohio 43215-2477

(614) 255-2561

TDD (614) 255-2554

Cathy Simmons

Oklahoma State Office

100 USDA, Suite 108

Stillwater, Oklahoma 74074-2654

(405) 742-1076

TDD (405) 742-1007

Tim Henderson

Oregon State Office

1201 NE Lloyd Boulevard, Suite 801

Portland, Oregon 97232-1274

(503) 414-3340

TDD (503) 414-3387

Barb Brandon

Pennsylvania State Office

One Credit Union Place, Suite 330

Harrisburg, Pennsylvania 17110-2996

(717) 237-2276

TDD (717) 237-2261

Chris Adamchak

Puerto Rico State Office

IBM Building, Suite 601

Munoz Rivera Ave. #654

San Juan, Puerto Rico 00918

(787) 766-5095 (ext. 256)

TDD (787) 766-5332

Jan Vargas

Rhode Island

Served by Massachusetts State Office

South Carolina State Office

Strom Thurmond Federal Building

1835 Assembly Street, Room 1007

Columbia, South Carolina 29201

(803) 765-5870

TDD (803) 765-5697

Lila Moses

South Dakota State Office

Federal Building, Room 210

200 Fourth Street, SW

Huron, South Dakota 57350

(605) 352-1132

TDD (605) 352-1147

Roger Hazuka or Pam Reilly

Tennessee State Office

Suite 300

3322 West End Avenue

Nashville, Tennessee 37203-1084

(615) 783-1300

TDD (615) 783-1397

Abby Boggs

Texas State Office

Federal Building, Suite 102

101 South Main

Temple, Texas 76501

(254) 742-9772

TDD (254) 742-9712

Leon Carey

Utah State Office

Wallace F. Bennett Federal Building

125 South State Street, Room 301

Salt Lake City, Utah 84138

(801) 524-4308

TDD (801) 524-3309

Pam Davidson

Vermont State Office

City Center, 3rd Floor

89 Main Street

Montpelier, Vermont 05602

(802) 828-6021

TDD (802) 223-6365

Heidi Setien

Virgin Islands

Served by Florida State Office

Virginia State Office

Culpeper Building, Suite 238

1606 Santa Rosa Road

Richmond, Virginia 23229

(804) 287-1596

TDD (804) 287-1753

CJ Michels

Washington State Office

1835 Black Lake Boulevard, Suite B

Olympia, Washington 98512

(360) 704-7706

TDD (360) 704-7760

Bill Kirkwood

Western Pacific Territories

Served by Hawaii State Office

West Virginia

Parkersburg West Virginia County Office

91 Boyles Lane

Parkersburg, West Virginia 26104

(304) 422-9070

TDD (304) 284-4836

Penny Thaxton

Wisconsin State Office

4949 Kirschling Court

Stevens Point, Wisconsin 54481

(715) 345-7608 (ext. 111)

TDD (715) 345-7614

Sara Kendall

Wyoming State Office

Post Office Box 82601

Casper, Wyoming 82602-5006

(307) 233-6716

TDD (307) 233-6733

Alan Brooks

FOR FURTHER INFORMATION CONTACT: For general information, applicants may contact Bonnie Edwards-Jackson, Finance and Loan Analyst, Multi-Family Housing Preservation and Direct Loan Division, USDA Rural Development, Stop 0781, 1400 Independence Avenue, SW., Washington, DC 20250-0781, telephone (202) 690-0759 (voice) (this is not a toll free number) or (800) 877-8339 (TDD-Federal Information Relay Service) or via e-mail at Bonnie.Edwards@wdc.usda.gov.

V. Application Review Information

Applicants wishing to apply for assistance must make their statement of activities available to the public for comment. The applicant(s) must announce the availability of its statement of activities for review in a newspaper of general circulation in the project area and allow at least 15 days for public comment. The start of this 15-day period must occur no later than 16 days prior to the last day for acceptance of pre-applications by USDA Rural Development.

All applications for Section 533 funds must be filed with the appropriate Rural Development State Office or grants.gov and must meet the requirements of this Notice and 7 CFR part 1944, subpart N. Pre-applications determined not eligible and/or not meeting the selection criteria will be notified by the Rural Development State Office. All adverse determinations are appealable pursuant to 7 CFR part 11. Instructions on the appeal process will be provided at the time the applicant is notified of the adverse decision.

If submitting a paper application, applicants will file an original and two copies of Standard Form (SF) 424, “Application for Federal Assistance,” and supporting information with the appropriate Rural Development State Office. A pre-application package, including SF-424, is available in any Rural Development State Office. If an electronic application is submitted, applicants will upload the information at grants.gov. All preapplications shall be accompanied by the following information which Rural Development will use to determine the applicant's eligibility to undertake the HPG program and to evaluate the preapplication under the project selection criteria of 7 CFR 1944.679:

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with 7 CFR 1944.672, and the provisions for compliance with Stipulation I, A-G of the Programmatic Memorandum of Agreement, also known as PMOA, (RD Instruction 2000-FF, available in any Rural Development State Office or at http://www.rurdev.usda.gov/regs/pdf/2000ff.pdf) in accordance with 7 CFR 1944.673(b);

(4) The development standard(s) the applicant will use for the housing preservation work; and, if not the Rural Development standards for existing dwellings, the evidence of its acceptance by the jurisdiction where the grant will be implemented;

(5) The time schedule for completing the program;

(6) The staffing required to complete the program;

(7) The estimated number of very low- and low-income minority and nonminority persons the grantee will assist with HPG funds; and, if a rental property or cooperative assistance program, the number of units and the term of restrictive covenants on their use for very low- and low-income;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of an indirect cost proposal as required in 7 CFR parts 3015, 3016, and 3019, as applicable, when the applicant has another source of Federal funding in addition to the Rural Development HPG program;

(11) A brief description of the accounting system to be used;

(12) The method of evaluation to be used by the applicant to determine the effectiveness of its program which encompasses the requirements for quarterly reports to Rural Development in accordance with 7 CFR 1944.683(b) and the monitoring plan for rental properties and cooperatives (when applicable) according to 7 CFR 1944.689;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in 7 CFR 1944.671(b).

(b) Complete information about the applicant's experience and capacity to carry out the objectives of the proposed HPG program.

(c) Evidence of the applicant's legal existence, including, in the case of a private non-profit organization, which may include, but not be limited to, faith-based and community organizations, a copy of, or an accurate reference to, the specific provisions of State law under which the applicant is organized; a certified copy of the applicant's Articles of Incorporation and Bylaws or other evidence of corporate existence; certificate of incorporation for other than public bodies; evidence of good standing from the State when the corporation has been in existence 1 year or more; and the names and addresses of the applicant's members, directors and officers. If other organizations are members of the applicant-organization, or the applicant is a consortium, pre-applications should be accompanied by the names, addresses, and principal purpose of the other organizations. If the applicant is a consortium, documentation showing compliance with paragraph (4)(ii) under the definition of “organization” in 7 CFR 1944.656 must also be included.

(d) For a private non-profit entity, which may include, but not be limited to, faith-based and community organizations, the most recently audited statement and a current financial statement dated and signed by an authorized officer of the entity showing the amounts and specific nature of assets and liabilities together with information on the repayment schedule and status of any debt(s) owed by the applicant.

(e) A brief narrative statement which includes information about the area to be served and the need for improved housing (including both percentage and the actual number of both low-income and low-income minority households and substandard housing), the need for the type of housing preservation assistance being proposed, the anticipated use of HPG resources for historic properties, the method of evaluation to be used by the applicant in determining the effectiveness of its efforts.

(f) A statement containing the component for alleviating any overcrowding as defined by 7 CFR 1944.656.

(g) Applicant must submit an original and one copy of Form RD 1940-20, “Request for Environmental Information,” prepared in accordance with Exhibit F-1 of RD Instruction 1944-N (available in any Rural Development State Office or at http://www.rurdev.usda.gov/regs/forms/1940-20.pdf).

(h) Applicant must also submit a description of its process for:

(1) Identifying and rehabilitating properties listed on or eligible for listing on the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF, available in any Rural Development State Office or at http://www.rurdev.usda.gov/regs/pdf/2000ff.pdf.

(i) The applicant must also submit evidence of the State Historic Preservation Office's, (SHPO), concurrence in the proposal, or in the event of nonconcurrence, a copy of SHPO's comments together with evidence that the applicant has received the Advisory Council on Historic Preservation's (Council) advice as to how the disagreement might be resolved, and a copy of any advice provided by the Council.

(j) The applicant must submit written statements and related correspondence reflecting compliance with 7 CFR 1944.674(a) and (c) regarding consultation with local government leaders in the preparation of its program and the consultation with local and state government pursuant to the provisions of Executive Order 12372.

(k) The applicant is to make its statement of activities available to the public for comment prior to submission to Rural Development pursuant to 7 CFR 1944.674(b). The application must contain a description of how the comments (if any were received) were addressed.

(l) The applicant must submit an original and one copy of Form RD 400-1, “Equal Opportunity Agreement,” and Form RD 400-4, “Assurance Agreement,” in accordance with 7 CFR 1944.676. These forms can be obtained at any state office or at http://www.rurdev.usda.gov/rbs/oa/RD-400-1.pdf and http://www.rurdev.usda.gov/regs/forms/0400-04.pdf.

Applicants should review 7 CFR part 1944, subpart N for a comprehensive list of all application requirements.

VI. Selection Criteria

In accordance with 7 CFR 1944.679 applicants and proposed projects must meet the following criteria:

(a) Provide a financially feasible program of housing preservation assistance. “Financially feasible” is defined as proposed assistance which will be affordable to the intended recipient or result in affordable housing for very low- and low-income persons.

(b) Serve eligible rural areas with a concentration of substandard housing for households with very low-or low-income.

(c) Be an eligible applicant as defined in 7 CFR 1944.658.

(d) Meet the requirements of consultation and public comment in accordance with 7 CFR 1944.674.

(e) Submit a complete preapplication as outlined in 7 CFR 1944.676.

VII. Points System

For applicants meeting all of the requirements listed above, the Rural Development State Offices will then use weighted criteria in accordance with 7 CFR part 1944, subpart N as selection for the grant recipients. Each preapplication and its accompanying statement of activities will be evaluated and, based solely on the information contained in the preapplication, the applicant's proposal will be numerically rated on each criteria within the range provided. The highest-ranking applicant(s) will be selected based on allocation of funds available to the state.

(a) Points are awarded based on the percentage of very low-income persons that the applicant proposes to assist, using the following scale:

(1) More than 80%: 20 points.

(2) 61% to 80%: 15 points.

(3) 41% to 60%: 10 points.

(4) 20% to 40%: 5 points.

(5) Less than 20%: 0 points.

(b) The applicant's proposal may be expected to result in the following percentage of HPG fund use (excluding administrative costs) in comparison to the total cost of unit preservation. This percentage reflects maximum repair or rehabilitation results with the least possible HPG funds due to leveraging, innovative financial assistance, owner's contribution or other specified approaches. Points are awarded based on the following percentage of HPG funds (excluding administrative costs) to total funds:

(1) 50% or less: 20 points.

(2) 51% to 65%: 15 points.

(3) 66% to 80%: 10 points.

(4) 81% to 95%: 5 points.

(5) 96% to 100%: 0 points.

(c) The applicant has demonstrated its administrative capacity in assisting very low- and low-income persons to obtain adequate housing based on the following (30 points maximum):

(1) The organization or a member of its staff has at least one or more years experience successfully managing and operating a rehabilitation or weatherization type program: 10 points.

(2) The organization or a member of its staff has at least one or more years experience successfully managing and operating a program assisting very low- and low-income persons obtain housing assistance: 10 points.

(3) If the organization has administered grant programs, there are no outstanding or unresolved audit or investigative findings which might impair carrying out the proposal: 10 points.

(d) The proposed program will be undertaken entirely in rural areas outside Metropolitan Statistical Areas, also known as MSAs, identified by Rural Development as having populations below 10,000 or in remote parts of other rural areas (i.e., rural areas contained in MSAs with less than 5,000 population) as defined in 7 CFR 1944.656: 10 points.

(e) The program will use less than 20 percent of HPG funds for administration purposes:

(1) More than 20%: Not eligible.

(2) 20%: 0 points.

(3) 19%: 1 point.

(4) 18%: 2 points.

(5) 17%: 3 points.

(6) 16%: 4 points.

(7) 15% or less: 5 points.

(f) The proposed program contains a component for alleviating overcrowding as defined in 7 CFR 1944.656: 5 points.

In the event more than one preapplication receives the same amount of points, those preapplications will then be ranked based on the actual percentage figure used for determining the points for Section VII (a). Further, in the event that preapplications are still tied, then those preapplications still tied will be ranked based on the percentage for HPG fund use (low to high). Further, for applications where assistance to rental properties or cooperatives is proposed, those still tied will be further ranked based on the number of years the units are available for occupancy under the program (a minimum of 5 years is required). For this part, ranking will be based from most to least number of years.

Finally, if there is still a tie, then a lottery system will be used. After the award selections are made all applicants will be notified of the status of their applications by mail.

VIII. Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), (202) 720-6382 (TDD). “USDA is an equal opportunity provider, employer, and lender.”

Dated: April 16, 2010.
Tammye Treviño,
Administrator, Rural Housing Service.

[FR Doc. 2010-9648 Filed 4-26-10; 8:45 am]

BILLING CODE 3410-XV-P